DEPARTMENT OF HEALTH AND HUMAN SERVICES

Centers for Disease Control and Prevention

Notice of Award of a Sole-Source Cooperative Agreement To Fund Mali Ministry of Health

AGENCY: Centers for Disease Control and Prevention (CDC), Department of Health and Human Services (HHS).

ACTION: Notice.

SUMMARY: The Centers for Disease Control and Prevention (CDC), located within the Department of Health and Human Services (HHS), announces the award of approximately $600,000 with an expected total funding of approximately $3,000,000 over a 5-year period, to Mali Ministry of Health. This award will strengthen Mali's health system capacities to prevent, detect, and respond to infectious disease outbreaks and other public health emergencies.

DATES: The period for this award will be September 30, 2024, through September 29, 2029.

FOR FURTHER INFORMATION CONTACT: Shana Eatman, Centers for Disease Control and Prevention, 1600 Clifton Rd., Atlanta, GA Telephone: 770-488-3933, E-Mail: DGHPNOFOs@cdc.gov.

SUPPLEMENTARY INFORMATION: The sole-source award will build upon the work awarded under CDC-RFA-GH15-1627 Protecting and Improving Public Health Globally: Building and Strengthening Public Health Impact, Systems, Capacity, and Security.

Mali Ministry of Health is in a unique position to conduct this work, as it will support the training of a cadre of public health workers in field epidemiology and emergency preparedness and response. Surveillance and response capacities will be bolstered through improved laboratory point of care diagnostics and the integration of epidemiologic and laboratory data.

Summary of the Award

Recipient: Mali Ministry of Health.

Purpose of the Award: The purpose of this award is to improve core Global Health Security Agenda (GHSA) priorities in disease surveillance, laboratory diagnostics, and emergency preparedness and response and strengthen the public health workforce in field epidemiology, anti-microbial resistance, and emergency preparedness and response.

Amount of Award: $600,000 in Federal Fiscal Year (FFY) 2024 funds, with a total estimated $3,000,000 for the 5-year period of performance, subject to availability of funds. Please note, Year 1 funding will be $600,000 for Core Component 1.

Authority: This program is authorized under section 307 of the Public Health Service Act [42 U.S.C. 242I] and section 301(a) [42 U.S.C. 241(a)] of the Public Health Service Act.

Period of Performance: September 30, 2024, through September 29, 2029.

Dated: June 4, 2024.
Jamie Legier,
Acting Director, Office of Grants Services, Centers for Disease Control and Prevention.

[FR Doc. 2024-12652 Filed 6-7-24; 8:45 am]

BILLING CODE 4163-18-P